INTERNATIONAL TRADE COMMISSION

[Investigation No. 337-TA-448]

In the Matter of Certain Oscillating Sprinklers, Sprinkler Components, and Nozzles; Notice of Commission Determination Not To Review an Initial Determination Terminating the Investigation as to One Respondent

AGENCY: U.S. International Trade Commission.

ACTION: Notice.

SUMMARY: Notice is hereby given that the U.S. International Trade Commission has determined not to review an initial determination (ID) of the presiding administrative law judge (ALJ) in the above-captioned investigation terminating the investigation as to respondent Lego Irrigation Equipment (“Lego”) on the basis of withdrawal of the complaint.

FOR FURTHER INFORMATION CONTACT: Laurent de Winter, Esq., Office of the General Counsel, U.S. International Trade Commission, 500 E Street, SW., Washington, DC 20436, telephone 202-708-5452. General information concerning the Commission may also be obtained by accessing its Internet server (http://www.usitc.gov). The public record for this investigation may be viewed on the Commission's electronic docket (EDIS-ON-Line) at http://dockets.usitc.gov/eol.public. Hearing-impaired persons are advised that information on the matter can be obtained by contacting the Commission's TDD terminal on 202-205-1810.

SUPPLEMENTARY INFORMATION: The Commission instituted this investigation, which concerns allegations of unfair acts in violation of section 337 of the Tariff Act of 1930, in the importation and sale of certain oscillating sprinklers, sprinkler components, and nozzles, on February 9, 2001, 66 FR 9721. On May 4, 2001, complainant L.R. Nelson Corp. moved, pursuant to 19 U.S.C. 1337(c) and Commission rule 210.21(a), to terminate the investigation with respect to Lego. Complainant's motion asserted that Lego U.S.A. and complainant have reached a settlement in this investigation, and that complainant is withdrawing the allegations it made against Lego. No party responded to complainant's motion.

On May 31, 2001, the presiding ALJ (Judge Luckern) issued an ID (Order No. 8) terminating the investigation as to Lego pursuant to Commission rule 210.21(b). No petitions for review of the ID were filed.

This action is taken under the authority of section 337 of the Tariff Act of 1930, as amended (19 U.S.C. 1337), and Commission rule 210.42 (19 CFR 210.42).

Copies of the ID and all other nonconfidential documents filed in connection with this investigation are available for inspection during official business hours (8:45 a.m. to 5:15 p.m.) in the Office of the Secretary, U.S. International Trade Commission, 500 E Street, SW., Washington, DC 20436, telephone 202-205-2000.

Issued: June 20, 2001.
By order of the Commission.
Donna R. Koehnke,
Secretary.

[FR Doc. 01-15921 Filed 6-25-01; 8:45 am]

BILLING CODE 7020-02-P